COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were furnished by nonprofit agencies employing persons who are blind or have other severe disabilities.

DATES: Date added to and deleted from the Procurement List: April 23, 2023.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Deletions

On 1/27/2023 and 2/3/2023, the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7110-01-590-8676—Dual Monitor Arm, Column Mount, Ergonomic, Dark Gray, 21.7″ W x 14.6″ H x 7.1″ D

7110-01-590-8674—Monitor Arm, Column Mount, Ergonomic, Individual, Dark Gray, 17″

Designated Source of Supply: Chicago Lighthouse Industries, Chicago, IL

Contracting Activity: GSA/FAS FURNITURE SYSTEMS MGT DIV, PHILADELPHIA, PA

NSN(s)—Product Name(s):

6645-01-046-8848—Clock, Wall, Slimline, Brown 9¼″ Quartz

6645-01-046-8849—Clock, Wall, Slimline, Brown 12¾″ Quartz

Designated Source of Supply: Chicago Lighthouse Industries, Chicago, IL

Contracting Activity: GSA/FAS ADMIN SVCS ACQUISITION BR(2, NEW YORK, NY

NSN(s)—Product Name(s):

7045-01-470-3590—Greendisk

Designated Source of Supply: North Central Sight Services, Inc., Williamsport, PA

Contracting Activity: DLA TROOP SUPPORT, PHILADELPHIA, PA

NSN(s)—Product Name(s):

7520-00-904-1265—Marker, Tube Type, Fine Point, Black

7520-00-904-1266—Marker, Tube Type, Fine Point, Red

7520-00-904-1267—Marker, Tube Type, Fine Point, Green

7520-00-904-1268—Marker, Tube Type, Fine Point, Blue

Designated Source of Supply: Winston-Salem Industries for the Blind, Inc, Winston-Salem, NC

Contracting Activity: GSA/FAS ADMIN SVCS ACQUISITION BR(2, NEW YORK, NY

Service(s)

Service Type: Parts Machining

Mandatory for: U.S. Postal Service: National Inventory Control Center, Topeka, KS

Designated Source of Supply: Arizona Industries for the Blind, Phoenix, AZ

Contracting Activity: U.S. Postal Service, Washington, DC

Michael R. Jurkowski,
Acting Director, Business Operations.

[FR Doc. 2023-06100 Filed 3-23-23; 8:45 am]

BILLING CODE 6353-01-P